SMALL BUSINESS ADMINISTRATION

[Declaration of Disaster #3337; Amendment #4]

State of Iowa

In accordance with a notice received from the Federal Emergency Management Agency, dated June 6, 2001, the above-numbered Declaration is hereby amended to include Pottawattamie and Webster Counties in the State of Iowa as disaster areas caused by flooding and severe storms beginning on April 8, 2001 and continuing through May 29, 2001.

In addition, applications for economic injury loans from small businesses located in Boone, Cass, Hamilton, Harrison, Humboldt, Mills, Montgomery, Shelby and Wright Counties in the State of Iowa; and Douglas, Sarpy and Washington Counties in the State of Nebraska may be filed until the specified date at the previously designated location. Any counties contiguous to the above named primary counties and not listed here have been previously declared.

The number assigned for economic injury in the State of Nebraska is 9L8400.

All other information remains the same, i.e., the deadline for filing applications for physical damage is July 1, 2001 and for economic injury the deadline is February 1, 2002.

(Catalog of Federal Domestic Assistance Program Nos. 59002 and 59008)
Dated: June 7, 2001.
Allan I. Hoberman
Acting Associate Administrator, For Disaster Assistance.

[FR Doc. 01-15122 Filed 6-14-01; 8:45 am]

BILLING CODE 8025-01-P